DEPARTMENT OF THE INTERIOR

Office of Surface Mining Reclamation and Enforcement

30 CFR Parts 870 and 872

RIN 1029-AC47

Coal Production Fees and Fee Allocation

AGENCY: Office of Surface Mining Reclamation and Enforcement (OSM), Interior.

ACTION: Proposed rule; extension of comment period.

SUMMARY: In response to a request from the trustees of the United Mine Workers of America Combined Benefit Fund, we are extending the comment period for the proposed rule published in the September 17, 2004, Federal Register concerning fees and fee allocations under the abandoned mine reclamation program provisions of the Surface Mining Control and Reclamation Act of 1977 (SMCRA or the Act).

DATES: Electronic or written comments: We will accept written comments on the proposed rule until 4:30 p.m., Eastern time, on December 16, 2004.

ADDRESSES: If you wish to comment on the proposed rule, you may submit your comments by any of the following methods to the address indicted:

• E-mail: osmregs@osmre.gov. Please include docket number 1029-AC47 in the subject line of the message.

• Mail/Hand-Delivery/Courier: Office of Surface Mining Reclamation and Enforcement, Administrative Record, Room 210, 1951 Constitution Avenue, NW., Washington, DC 20240. Please identify the comments as pertaining to docket number 1029-AC47.

• Federal e-Rulemaking Portal: http//www.regulations.gov. Follow the instructions provided at http://www.regulations.gov under the “How to Comment” heading for this rule.

FOR FURTHER INFORMATION CONTACT: Dennis Rice, Office of Surface Mining Reclamation and Enforcement, 1951 Constitution Avenue, NW., Washington, DC 20240. Telephone: (202) 208-2829. E-mail address: drice@osmre.gov. You will find additional information concerning OSM, fees on coal production, and Abandoned Mine Reclamation Fund, and abandoned mine reclamation in general on our home page at http://www.osmre.gov.

SUPPLEMENTARY INFORMATION: On September 17, 2004, we published a proposed rule setting forth procedures and criteria for the establishment of fees under section 402(b) of SMCRA. That section of the Act provides that, when the rates set forth in section 402(a) of the Act expire, the fee for coal produced after that date “shall be established at a rate to continue to provide for the deposit referred to in subsection (h) [of section 402 of SMCRA].” Section 402(h) requires the annual transfer of certain estimated Abandoned Mine Reclamation Fund earnings to the United Mine Workers of America Combined Benefit Fund. The proposed rule also contained revisions to the regulations governing allocation and disposition of fee collections and other Abandoned Mine Reclamation Fund income. For a full explanation of the proposed rule, please refer to the rule text and preamble published at 69 FR 56132-56144.

At the time the rule was published, the fee rates set forth in section 402(a) of the Act would have expired on September 30, 2004. However, a continuing resolution enacted on September 30, 2004, extended those rates through November 20, 2004. See section 125 of Public Law 108-309. Further continuing resolutions or appropriations legislation may provide for additional extensions of the statutory rates or revisions thereof.

The comment period on the proposed rule was originally scheduled to close on November 16, 2004. However, by letter dated November 10, 2004, the trustees of the United Mine Workers of America Combined Benefit Fund requested a 30-day extension of that deadline. We are granting that request, which means that all interested persons may submit electronic or written comments until December 16, 2004, in accordance with the instructions provided in DATES and ADDRESSES above and in Part X of the preamble to the September 17, 2004, rule (see 69 FR 56140).

Dated: November 18, 2004.
Jeffrey D. Jarrett,
Director, Office of Surface Mining Reclamation and Enforcement.

[FR Doc. 04-26195 Filed 11-26-04; 8:45 am]

BILLING CODE 4310-05-M